DEPARTMENT OF HOMELAND SECURITY

[Docket No. DHS-2010-0084]

Agency Information Collection Activities: Office of Infrastructure Protection; Infrastructure Protection Stakeholder Input Project—Generic Clearance

AGENCY: National Protection and Programs Directorate, DHS.

ACTION: 60-day notice and request for comments; New Information Collection Request: 1670-NEW.

SUMMARY: The Department of Homeland Security, National Protection and Programs Directorate, Office of Infrastructure Protection (IP), will submit the following Information Collection Request (ICR) to the Office of Management and Budget (OMB) for review and clearance in accordance with the Paperwork Reduction Act of 1995 (Pub. L. 104-13, 44 U.S.C. Chapter 35).

DATES: Comments are encouraged and will be accepted until January 3, 2011. This process is conducted in accordance with 5 CFR 1320.1.

ADDRESSES: Written comments and questions about this Information Collection Request should be forwarded to the Office of Infrastructure Protection, Attn.: Michael Beland, Michael.Beland@dhs.gov. Written comments should reach the contact person listed no later than January 3, 2011. Comments must be identified by DHS-2010-0084 and may be submitted by one of the following methods:

• Federal eRulemaking Portal: http://www.regulations.gov.

• E-mail: Michael.Beland@dhs.gov. Include the docket number in the subject line of the message.

Instructions: All submissions received must include the words “Department of Homeland Security” and the docket number for this action. Comments received will be posted without alteration at http://www.regulations.gov, including any personal information provided.

SUPPLEMENTARY INFORMATION: The Homeland Security Act of 2002 and Homeland Security Presidential Directive 7 (HSPD-7) call for the Department of Homeland Security (DHS) to coordinate the overall effort to enhance the protection of the Nation's critical infrastructure and key resources. Specifically, HSPD-7 states DHS “shall establish appropriate systems, mechanisms, and procedures to share homeland security information relevant to threats and vulnerabilities in national critical infrastructure and key resources with other Federal departments and agencies, State and local governments, and the private sector in a timely manner.” DHS designated IP to lead these efforts.

Given that the vast majority of the Nation's critical infrastructure and key resources in most sectors are privately owned or controlled, IP's success in achieving the homeland security mission for critical infrastructure protection and resilience is dependent upon how well critical infrastructure owners and operators and members of the general public understand the key concepts, are aware of their contribution to achieve a shared national goal, participate in public-private partnerships, and are motivated to take action. However, IP has never conducted a comprehensive feedback assessment with the full range of its stakeholders to identify, measure, and improve the effectiveness of its efforts. IP desires to collect information from its stakeholders in order to:

• Provide a baseline for the effectiveness of efforts to improve the security of the Nation's infrastructure;

• Assist in validating and achieving IP's strategic and mission area objectives;

• Obtain a better understanding of the evolving infrastructure protection and resiliency requirements of IP's stakeholders;

• Increase the visibility and awareness of the critical infrastructure protection and resilience mission;

• Initiate the coordination and uniformity of outreach efforts by IP, sector-specific agencies, and other partners engaged in the infrastructure protection mission; and

• Collect feedback regarding event, threat or service-specific activities in a timely fashion.

OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: Office of Infrastructure Protection Stakeholder Input Project—Generic Clearance.

OMB Number: 1670-NEW.

IP Stakeholder Input Project—Surveys

Frequency: On occasion.

Affected Public: Private sector and non-Federal infrastructure protection community.

Number of Respondents: 5,980.

Estimated Time per Respondent: 40 minutes.

Total Burden Hours: 3,056 annual burden hours.

Total Burden Cost (capital/startup): $0.

Total Burden Cost (operating/maintaining): $0.

IP Stakeholder Input Project—Focus Groups

Frequency: On occasion.

Affected Public: Private sector and non-Federal infrastructure protection community.

Number of Respondents: 260.

Estimated Time per Respondent: 2 hours.

Total Burden Hours: 520 annual burden hours.

Total Burden Cost (capital/startup): $0.

Total Burden Cost (operating/maintaining): $0.

IP Stakeholder Input Project—Interviews

Frequency: On occasion.

Affected Public: Private sector and non-Federal infrastructure protection community.

Number of Respondents: 60.

Estimated Time per Respondent: 1 hour.

Total Burden Hours: 60 annual burden hours.

Total Burden Cost (capital/startup): $0.

Total Burden Cost (operating/maintaining): $0.

Dated: October 28, 2010.
David Epperson,
Acting Chief Information Officer, National Protection and Programs Directorate, Department of Homeland Security.

[FR Doc. 2010-27827 Filed 11-3-10; 8:45 am]

BILLING CODE 9110-9P-P